OFFICE OF GOVERNMENT ETHICS

Agency Information Collection Activities; Information Collection Renewal; Comment Request for OGE Form 278e Executive Branch Personnel Public Financial Disclosure Report

AGENCY: Office of Government Ethics (OGE).

ACTION: Notice and request for comments.

SUMMARY: After this first round notice and public comment period, the Office of Government Ethics (OGE) plans to request that the Office of Management and Budget (OMB) renew its approval under the Paperwork Reduction Act for a modified version of an existing information collection, entitled the OGE Form 278e Executive Branch Personnel Public Financial Disclosure Report.

DATES: Written comments by the public and agencies on the proposed modification and extension are invited and must be received by April 26, 2024.

ADDRESSES: Comments may be submitted to OGE by any of the following methods:

Email: usoge@oge.gov (Include reference to “OGE Form 278e paperwork comment” in the subject line of the message.)

Mail: Office of Government Ethics, Attention: Jennifer Matis, Associate Counsel, 250 E Street SW, Suite 750, Washington, DC 20024-3249.

Instructions: Comments may be posted on OGE's website, www.oge.gov. Sensitive personal information, such as account numbers or Social Security numbers, should not be included. Comments generally will not be edited to remove any identifying or contact information.

FOR FURTHER INFORMATION CONTACT: Jennifer Matis at the U.S. Office of Government Ethics; telephone: 202-482-9216; TTY: 800-877-8339; Email: jmatis@oge.gov. A copy of the form with proposed changes marked in red is available here: https://oge.box.com/s/jrca898wqy81iwy1gklc8ydoyuyp963b.

SUPPLEMENTARY INFORMATION:

Title: Executive Branch Personnel Public Financial Disclosure Report.

Agency Form Number: OGE Form 278e.

Abstract: The OGE Form 278e collects information from certain officers and high-level employees in the executive branch for conflicts of interest review and public disclosure. The form also collects information from individuals who are nominated by the President for high-level executive branch positions requiring Senate confirmation and individuals entering into and departing from other public reporting positions in the executive branch. The information is collected in accordance with 5 U.S.C. 13104 and OGE's implementing financial disclosure regulations at 5 CFR part 2634. The information collected relates to: assets and income; transactions; gifts, reimbursements and travel expenses; liabilities; agreements or arrangements; outside positions; and compensation over $5,000 paid by a source—all subject to various reporting thresholds and exclusions.

OGE has approval for five versions of the Form 278e: a PDF version, an Excel version, an electronic version called Integrity, a Chinese language version, and a Spanish language version. The translated versions are intended to be informational only, to allow more members of the public to understand the content of filers' public reports. The version of the Form 278e that is produced by Integrity is a streamlined output report format that presents only the filer's inputs in given categories and does not report other categories not selected by the filer. It is this output report that is made available to the public in PDF form. Most public disclosure filers now use Integrity to file the OGE Form 278e. However, OGE also continues to maintain an Excel version of the form and a 508 compliant PDF version accessible to users who use screen readers to access and interact with digital information.

OGE seeks renewal of the OGE Form 278e with several modifications. OGE sought and received input from a variety of stakeholders before proposing these modifications. Comments submitted by the public in response to the Federal Register notices published during the last renewal in 2021 were reconsidered. In addition, OGE solicited and received additional comments from OGE employees, agency ethics officials (who are the individuals responsible for reviewing the completed forms for potential conflicts of interest), interested Congressional offices, and the public. On January 19, 2023, OGE held a public meeting to discuss potential changes to the OGE Forms 450 and 278e and accepted written comments in lieu of appearing in-person. See 87 FR 73766 (Dec. 1, 2022).

OGE considered each comment submitted. The proposed modifications discussed below incorporate the suggested changes that OGE believes will provide added clarity and value to the financial disclosure process. OGE is declining to make other suggested changes at this time due to OGE's lack of regulatory authority to make such changes, lack of interest by the affected agencies, and/or the associated costs to Integrity.

The proposed modifications are described below. These changes apply to the English language versions of the form only; OGE will update its Spanish and Chinese instructional versions at a later date.

Changes to All English Versions (Excel, PDF, and Integrity)

OGE proposes to add a question for all filers regarding their type of appointment. The options offered are “PAS,” “Non-Career,” and “Career.” The information may be provided by the filer or by their agency. This information will appear on the cover page. This change was requested by a good government group in order to help the public understand the filer's potential conflicts. One of the primary purposes of the public financial disclosure report is to allow the public to understand any potential conflicts of interest the filer might have. Knowing the filer's type of appointment is important to this understanding because different types of officials have different ethics requirements.

OGE also proposes to identify the date of appointment on the cover page of reports for all filers other than nominees (who have not yet been appointed at the time they complete the form). Integrity currently identifies the date of appointment on the cover page of a new entrant report only. The Excel and PDF versions currently have one field for both date of appointment and date of termination, which OGE proposes separating into two fields. The purpose is to benefit the public's understanding of the time period during which the individual was in a public filing position.

Lastly, OGE proposes to add a link to its online Public Financial Disclosure Guide, the most widely used resource for completing and reviewing public financial disclosure reports.

Changes to the Excel and PDF Versions Only

OGE proposes instructional changes to the Excel and PDF versions to provide better guidance to those filers who do not use the Integrity application. OGE does not propose any changes to the information collected on the Excel and PDF versions of the form, beyond the addition of “appointment type” discussed above.

OGE proposes two changes to the initial instructions page to improve clarity: (1) changing the topic headings to plain language questions (e.g., changing “Late Filing” to “What Happens if I File Late?”); and (2) consolidating the guidance on which parts to complete into a new section headed “What Parts Must I Complete?”

In the rest of the instructions, OGE proposes to add clarifying guidance on reporting requirements, exceptions to reporting requirements, and definitions. OGE also proposes to add specific instructions to avoid reporting unnecessary personal information. Finally, OGE proposes to add a note indicating that the reporting thresholds for gifts are applicable for calendar years 2023-2025 and that the amounts are adjusted every three years.

OMB Control Number: 3209-0001.

Type of Information Collection: Extension of a currently approved collection.

Type of Review Request: Regular.

Affected Public: Private citizen Presidential nominees to executive branch positions subject to Senate confirmation; other private citizens who are potential (incoming) Federal employees whose positions are designated for public disclosure filing; those who file termination reports from such positions after their Government service ends; and Presidential and Vice-Presidential candidates.

Estimated Annual Number of Respondents: 4,257.

Estimated Time per Response: 10 hours.

Estimated Total Annual Burden: 42,570 hours.

Request for Comments: OGE is publishing this first round notice of its intent to request paperwork clearance renewal for OGE Form 278e. Public comment is invited specifically on the need for and practical utility of this information collection, the accuracy of OGE's burden estimate, the enhancement of quality, utility and clarity of the information collected, and the minimization of burden (including the use of information technology). OGE specifically seeks comments on whether the proposed changes will change the burden of completing the form. Comments received in response to this notice will be summarized for, and may be included with, the OGE request for extension of OMB paperwork approval. The comments will also become a matter of public record.

Approved: February 20, 2024.
Shelley K. Finlayson,
Acting Director, U.S. Office of Government Ethics.

[FR Doc. 2024-03814 Filed 2-23-24; 8:45 am]

BILLING CODE 6345-03-P